COMMITTEE FOR PURCHASE FROM PEOPLE WHO ARE BLIND OR SEVERELY DISABLED

Procurement List; Final Additions; Correction

AGENCY: Committee for Purchase From People Who Are Blind or Severely Disabled.

ACTION: Notice; correction.

SUMMARY: The Committee for Purchase From People Who Are Blind or Severely Disabled published a document in the Federal Register of February 3, 2017, concerning a notice of Additions.

FOR FURTHER INFORMATION CONTACT: Amy B. Jensen, Telephone: (703) 603-2132.

Correction

In the Federal Register of February 3, 2017, in FR Doc. 2017-02333, (82 FR 9203-9204), the Committee would like to correct the notice for “Procurement List; Additions” DATES: Effective February 26, 2017 to March 5, 2017.

Dated: March 21, 2017.
Amy B. Jensen,
Director, Business Operations.

[FR Doc. 2017-05901 Filed 3-23-17; 8:45 am]

BILLING CODE 6353-01-P